DEPARTMENT OF ENERGY

Federal Energy Regulatory Commission

[Docket No. OR11-5-000]

Enbridge Energy, Limited Partnership; Notice of Filing of Supplement to Facilities Surcharge Settlement

Take notice that on February 28, 2011, Enbridge Energy, Limited Partnership (Enbridge Energy) with the support of the Canadian Association of Petroleum Producers (CAPP), tendered for filing a Supplement to the Facilities Surcharge Settlement approved by the Commission on June 30, 2004, in Docket No. OR04-2-000, at 107 FERC ¶ 61,336 (2004).

Any person desiring to comment on this Supplement to the Settlement should file its intervention or protest with the Federal Energy Regulatory Commission, 888 First Street, NE., Washington, DC 20426. Initial comments must be filed no later than 5 p.m. Eastern time on Friday, March 25, 2011. Reply comments will be due on or before 5 p.m. Eastern time on Thursday, March 31, 2011.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to subscribed dockets(s). For assistance with any FERC Online service, please e-mail FERCOnlineSupport@ferc.gov or call (866) 208-3676 (toll free). For TTY, call (202) 502-8659.

Dated: March 22, 2011.
Kimberly D. Bose,
Secretary.

[FR Doc. 2011-7281 Filed 3-28-11; 8:45 am]

BILLING CODE 6717-01-P